FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. Copies of the agreement are available through the Commission's Web site (www.fmc.gov) or by contacting the Office of Agreements at (202) 523-5793 or tradeanalysis@fmc.gov.

Agreement No.: 011787-001.

Title: NSCSA/NYK Middle East/Europe Space Charter Agreement

Parties: National Shipping Company of Saudi Arabia and Nippon Yusen Kaisha.

Filing Party: Robert Shababb; NYK Line (North America) Inc.; 300 Lighting Way, 5th Floor; Secaucus, NJ 07094.

Synopsis: The amendment adds the Mediterranean Coast of Europe to the geographical scope of the agreement, and updates language in the agreement concerning routine operational and administrative matters.

By Order of the Federal Maritime Commission.
Dated: January 8, 2016.
Karen V. Gregory,
Secretary.

[FR Doc. 2016-00515 Filed 1-12-16; 8:45 am]

BILLING CODE 6731-AA-P